NATIONAL SCIENCE FOUNDATION

Agency Information Collection Activities: Comment Request

AGENCY: National Science Foundation (NSF).

ACTION: Submission for OMB review; comment request.

SUMMARY: Under the Paperwork Reduction Act of 1995, Pub. L. 104-13 (44 U.S.C. 3501 et seq.), and as part of its continuing effort to reduce paperwork and respondent burden, the National Science Foundation (NSF) is inviting the general public and other Federal agencies to comment on this proposed continuing information collection. This is the second notice for public comment; the first was published in the Federal Register at 67 FR 11146 and no comments were received. NSF is forwarding the proposed submission to the Office of Management and Budget (OMB) for clearance simultaneously with the publication of this second notice.

DATES: Comments regarding thse information collections are best assured of having their full effect if received by OMB within 30 days of publication in the Federal Register.

ADDRESSES: Written commenets regarding (a) Whether the collection of information is necessary for the proper performance of the functions of NSF, including whether the information will have practical utility; (b) the accuracy of NSF's estimate of burden including the validity of the methodology and assumptions used; (c) ways to enhance the quality, utility and clarity of the information to be collected; or (d) ways to minimize the burden of the collection of information on those who are to respond, including through the use of appropriate automated, electronic, mechanical, or other technological collection techniques or other forms of information should be addressed to: Office of Information and Regulatory Affairs of OMB, Attention: Desk Officer for National Science Foundation, 725 17th Street, NW., Room 10235, Washington, DC 20503, and to Suzanne H. Plimpton, Reports Clearance Officer, National Science Foundation, 4201 Wilson Boulevard, Suite 295, Arlington, Virginia 22230 or send e-mail to splimpto@nsf.gov. Copies of the submission may be obtained by calling (703) 292-7556.

FOR FURTHER INFORMATION CONTACT: Suzanne H. Plimpton, NSF Reports Clearance Officer at (703) 292-7556 or send e-mail to splimpto@nsf.gov.

An agency may not conduct or sponsor a collection of information unless the collection of information displays a currently valid OMB control number and the agency informs potential persons who are to respond to the collection of information that such persons are not required to respond to the collection of information unless it displays a currently valid OMB control number.

SUPPLEMENTARY INFORMATION: Title of Collection: Cross-Site Evaluation of the National Science Foundation's Directorate for Education and Human Resources' Urban Systemic Program.

OMB Approval Number: 3145-0186.

Abstract: The National Science Foundation (NSF) requests a three-year clearance for an evaluation of the Urban Systemic Program (USP), a study that has been on-going since October 1999 first under OMB 3145-0136 and now under OMB 3145-0186. Due to a change in OMB terms of clearance for OMB 3145-0136, NSF established an independent clearance for the USP study under the terms of an emergency clearance.

USP began in 1999 when NSF made competitive awards of up to $3 million per year, for up to 5 years, to 5 urban school districts. Since then, the program has made awards to 13 additional districts in 2000, and another 9 districts in 2001. The USP represents one of NSF's major investments in improving science and mathematics education in urban school systems across the country, and have third-party evaluation is important in order for the agency to interpret the worthiness of the investment.

NSF uses the data to: (1) Determine whether to modify or extend the USP concepts and (2) share best practices and lessons learned about reform in mathematics and science education for K-12 schools.

Specifically, during the first two years of the USP Cross-Site Evaluation, the third-party, COSMOS Corporation of Bethesda, MD, has produced reports for others at NSF (e.g., the National Science Board). Though there are other sources of such documentation, the information provided by the Cross-Site team is valued because the team is not associated in any way with the program sites. Second, the Division of Educational System Reform uses the information to supplement its annual program monitoring. Third, NSF will use the information, both to assess its investment in the USP program and potentially to help to guide the design of future programs, such as the Mathematics and Science Partnerships.

During the extended period of clearance, the cross-site evaluation will conduct site visits to the first 18 districts that received USP awards and will collect student achievement data in mathematics and science from all of the districts. This data collection complements earlier efforts already undertaken by the Cross-Site team under earlier OMB clearances.

Respondents: State, local or tribal governments.

Number of Respondents: 324.

Burden on the Public: 121.5 hours.

Dated: July 22, 2002.
Suzanne H. Plimpton,
Reports Clearance Officer, National Science Foundation.

[FR Doc. 02-18824 Filed 7-24-02; 8:45 am]

BILLING CODE 7555-01-M